DEPARTMENT OF COMMERCE

Foreign-Trade Zones Board

Foreign-Trade Zone 132—Coos Bay, Oregon Site Renumbering Notice

Foreign-Trade Zone 132 was approved by the Foreign-Trade Zones Board on August 19, 1986 (Board Order 336, 51 FR 30684, August 28, 1986) and currently consists of three “Sites” totaling 1,235 acres in Coos Bay and North Bend, Oregon.

The current update does not alter the physical boundaries of the sites that have been approved, but instead involves an administrative renumbering of existing Site 3 to separate unrelated, non-contiguous parcels for record keeping purposes.

Under this revision, the site list for FTZ 132 will be as follows: Site 1 (284 acres)—marine terminal located at 90330 Transpacific Parkway, North Bend; Site 2 (520 acres)—Roseburg Lumber Company, 66425 Jordan Cove Road, North Bend; Site 3 (23 acres)—marine terminal located at California Avenue, North Bend; Site 4 (37.5 acres)—marine terminal located at 3050 Tremont Avenue, North Bend; Site 5 (13 acres)—marine terminal located at 1210 Front Street, Coos Bay; Site 6 (97 acres)—Georgia Pacific Industrial Park, 93783 Newport Lane, Coos Bay; and, Site 7 (260 acres)—Southwest Oregon Regional Airport, 1451 Airport Lane, North Bend (formerly the North Bend Municipal Airport).

For further information, contact Christopher Kemp at Christopher.Kemp@trade.gov or (202) 482-0862.

Dated: July 19, 2017.
Elizabeth Whiteman,
Acting Executive Secretary.

[FR Doc. 2017-15462 Filed 7-21-17; 8:45 am]

BILLING CODE 3510-DS-P